DEPARTMENT OF HOUSING AND URBAN DEVELOPMENT

24 CFR Part 202

[Docket No. FR 5356-C-03]

RIN 2502-AI81

Federal Housing Administration: Continuation of FHA Reform—Strengthening Risk Management Through Responsible FHA-Approved Lenders; Correction

AGENCY: Office of General Counsel, HUD.

ACTION: Final rule; correction.

SUMMARY: HUD is correcting a final rule that appeared in the Federal Register of April 20, 2010 (75 FR 20718). This final rule adopted changes pertaining to the approval of mortgage lenders by the Federal Housing Administration (FHA) that are designed to strengthen FHA by improving its management of risk. Although the preamble to the final rule correctly provides that the revised net worth requirements will take effect for applicants to the FHA programs on May 20, 2010, the corresponding regulatory text incorrectly provides that the requirements will take effect on June 21, 2010. This document makes the necessary correction.

DATES: Effective Date: May 20, 2010.

FOR FURTHER INFORMATION CONTACT: Camille E. Acevedo, Associate General Counsel for Legislation and Regulations, Office of General Counsel, Department of Housing and Urban Development, 451 7th Street, SW., Room 10276, Washington, DC 20410-8000; telephone number 202-708-1793 (this is not a toll-free number). Persons with hearing or speech impairments may access this number through TTY by calling the toll-free Federal Information Relay Service at 800-877-8339.

SUPPLEMENTARY INFORMATION: In FR Doc. 2010-8837 appearing on page 20718 in the Federal Register of Tuesday, April 20, 2010, the following correction is made:

§ 202.5 [Corrected]

1. On page 20733, in the third column, in § 202.5 General approval standards, in paragraph (n)(2)(i), “Effective on June 21, 2010, applicants shall comply with the net worth requirements set forth in paragraphs (n)(2)(iii) of this section.” is corrected to read “Effective on May 20, 2010, applicants shall comply with the net worth requirements set forth in paragraph (n)(2)(iii) of this section.”

Dated: April 29, 2010.
Camille E. Acevedo,
Associate General Counsel for Legislation and Regulations.

[FR Doc. 2010-10424 Filed 5-3-10; 8:45 am]

BILLING CODE 4210-67-P